DEPARTMENT OF HEALTH AND HUMAN SERVICES

Centers for Disease Control and Prevention

[30Day-09-09BW]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Postural Analysis in Low-Seam Mines—Existing collection without an OMB control number—National Institute for Occupational Safety and Health (NIOSH), Centers for Disease Control and Prevention (CDC).

Background and Brief Description

NIOSH, under Public Law 91-596, sections 20 and 22 (section 20-22, Occupational Safety and Health Act of 1970) has the responsibility to conduct research relating to innovative methods, techniques, and approaches dealing with occupational safety and health problems.

According to the Mining Safety and Health Administration (MSHA) injury database, 227 knee injuries were reported in underground coal mining in 2007. With data from the National Institute for Occupational Safety and Health (NIOSH), it can be estimated that the financial burden of knee injuries was nearly three million dollars in 2007.

Typically, mine workers utilize kneepads to better distribute the pressures at the knee. The effectiveness of these kneepads is to be investigated in a study by NIOSH. Thus, NIOSH will be determining the forces, stresses, and moments at the knee while in postures associated with low-seam mining. At this time, the postures utilized by low-seam mine workers and their frequency of use are unknown. Therefore, before conducting this larger, experimental study, the existing collection without an OMB control number was required.

The aim of the field study described in this document was to determine the postures predominantly used by low-seam mine workers such that they may complete the various tasks associated with their job duties. A questionnaire was developed for each of the major job types seen in low-seam mines with continuous miners (continuous miner operator, roof bolter operator, shuttle car operator, mobile bridge operator, mechanic, beltman, maintenance shift worker, foreman). The questionnaire asked basic demographic information (e.g., time in job type, years in mining, age). Additionally, a series of questions were asked such that it could be determined if a mine worker is likely to have a knee injury, even if it is undiagnosed. These questions were developed with the help of a physical therapist. A schematic of possible postures was then presented to the mine workers and they were asked to identify the primary two postures they utilize to complete their job duties. The questionnaire then asked mine workers to identify the primary postures they utilize to complete specific tasks (e.g., hanging curtain, building stoppings) that are part of their job duties. Finally, mine workers were asked to identify those postures that are least and most comfortable/stressful. There is no cost to respondents other than their time. The total estimated annual burden hours are 12.

Estimated Annualized Burden Hours
Respondent | Form name | Number of respondents | Number of responses per respondent | Average burden per response (in hours)
Continuous miner operator | Continuous Miner Operator Form | 5 | 1 | 10/60
Foreman | Foreman Form | 5 | 1 | 10/60
Maintenance Shift Worker | Maintenance Shift Worker Form | 10 | 1 | 10/60
Mobile Bridge Operator | Mobile Bridge Operator Form | 10 | 1 | 10/60
Roof Bolter Operator | Roof Bolter Operator Form | 14 | 1 | 10/60
Scoop Operator | Scoop Operator Form | 6 | 1 | 10/60
Shuttle Car Operator | Shuttle Car Operator Form | 6 | 1 | 10/60
Mechanic | Mechanic Form | 6 | 1 | 10/60
Beltman | Beltman Form | 2 | 1 | 10/60

Dated: August 27, 2009.
Maryam I. Daneshvar,
Acting Reports Clearance Officer, Centers for Disease Control and Prevention.

[FR Doc. E9-21376 Filed 9-3-09; 8:45 am]

BILLING CODE 4163-18-P